DEPARTMENT OF COMMERCE

National Oceanic and Atmospheric Administration

50 CFR Part 223

Threatened Marine and Anadromous Species

CFR Correction

In Title 50 of the Code of Federal Regulations, parts 200 to 599, revised as of October 1, 2004, in § 223.206, on page 176, remove paragraphs (B) Regulated waters, (C) Reporting requirement, (D) Monitoring, and (E) Expedited modification of restrictions and effective dates.

[FR Doc. 05-55503 Filed 4-4-05; 8:45 am]

BILLING CODE 1505-01-D